ENVIRONMENTAL PROTECTION AGENCY

[EPA-HQ-OPP-2024-0118; FRL-11870-01-OCSPP]

Nominations to the Federal Insecticide, Fungicide, and Rodenticide Act Scientific Advisory Panel (FIFRA SAP); Request for Comments

AGENCY: Environmental Protection Agency (EPA).

ACTION: Notice.

SUMMARY: The Environmental Protection Agency (EPA or the Agency) is now accepting public comments on the experts the Agency is considering for membership on the Federal Insecticide, Fungicide, and Rodenticide Act (FIFRA) Scientific Advisory Panel (SAP). This document identifies the individuals nominated. The Agency anticipates selecting from those nominees that are identified as interested and available to appoint up to four new SAP members by July 2024 due to expiring membership terms. Current members of the SAP are eligible for reappointment during this period. Therefore, the appointments anticipated to be completed by July may include a mix of newly appointed and reappointed members. Public comments on these nominations will be used to assist the Agency in selecting the new members for the FIFRA SAP.

DATES: Submit your comments on or before May 20, 2024.

ADDRESSES: Submit comments, identified by docket identification (ID) number EPA-HQ-OPP-2024-0118, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: The Designated Federal Official (DFO) is Tamue L. Gibson; Mission Support Division (7602M), Office of Program Support, Office of Chemical Safety and Pollution Prevention, Environmental Protection Agency; telephone number: (202) 564-7642; email address: gibson.tamue@epa.gov.

SUPPLEMENTARY INFORMATION:

I. General Information

A. Does this action apply to me?

This action is directed to the public in general. It may be of particular interest to persons who are interested in the impact of pesticide regulatory actions on health and the environment and pesticide-related issues in general. The Agency has not attempted to describe all the specific entities that may be affected by this action. If you have any questions, consult the DFO listed under FOR FURTHER INFORMATION CONTACT.

B. What should I consider as I prepare my comments for EPA?

1. Submitting CBI

Do not submit CBI information to EPA through email or https://www.regulations.gov. If your comment contains any information that you consider to be CBI or otherwise protected, please contact the DFO listed under FOR FURTHER INFORMATION CONTACT to obtain special instructions before submitting your comments. Information properly marked as CBI will not be disclosed except in accordance with the procedures set forth in 40 CFR part 2.

2. Commenting on EPA Dockets

When preparing and submitting your comments, see Commenting on EPA Dockets at https://www.epa.gov/dockets/commenting-epa-dockets.

C. What action is the Agency taking?

This document solicits public comment on the experts recently nominated to serve on the FIFRA SAP (see unit III.D.2.). The Agency anticipates selecting from these nominations to appoint up to four new SAP members by July 2024 due to expiring membership terms. Current members of the SAP are eligible for reappointment during this period. Therefore, the appointments anticipated to be completed by July may include a mix of newly appointed and reappointed members. Public comments on these recent nominations will be used to assist the Agency in selecting the new members for the FIFRA SAP.

D. What is the Agency's authority for taking this action?

The FIFRA SAP is a Federal advisory committee, established in 1975 under FIFRA (7 U.S.C. 136 et seq.), that operates in accordance with requirements of the Federal Advisory Committee Act (FACA) (5 U.S.C. 10). In accordance with FACA requirements, a Charter for the FIFRA SAP, dated August 17, 2022, provides for open meetings with opportunities for public participation.

II. Background

The FIFRA SAP serves as a scientific peer review mechanism of EPA's Office of Chemical Safety and Pollution Prevention (OCSPP) and is structured to provide independent scientific advice, information, and recommendations to the EPA Administrator on pesticides and pesticide-related issues as to the impact of regulatory actions on health and the environment. The FIFRA SAP is composed of a permanent panel consisting of seven members who are appointed by the EPA Administrator from nominees provided by the National Institutes of Health (NIH) and the National Science Foundation (NSF). Members serve staggered terms of appointment, generally of three to six years duration. To augment the knowledge-base of the FIFRA SAP, FIFRA established a Science Review Board (SRB) consisting of at least 60 scientists who are available to the FIFRA SAP on an ad hoc basis to assist in reviews conducted by the FIFRA SAP.

As a scientific peer review mechanism, the FIFRA SAP provides comments, evaluations, and recommendations to improve the effectiveness and quality of analyses made by Agency scientists. Members of the FIFRA SAP are scientists who have sufficient professional qualifications, including training and experience, to provide expert advice and recommendations to the Agency.

III. Nominees

A. Qualifications of Members

Members are scientists who have sufficient professional qualifications, including training and experience, to provide expert comments on the impact of pesticides on human health and the environment. In accordance with FIFRA section 25(d)(1), the Administrator shall require nominees to the FIFRA SAP to furnish information concerning their professional qualifications, including educational background, employment history, and scientific publications. No persons shall be ineligible to serve on the FIFRA SAP by reason of their membership on any other advisory committee to a Federal department or agency, or their employment by a Federal department or agency (except EPA). FIFRA section 25(d) further stipulates that the Agency publish the name, address, and professional affiliation of the nominees in the Federal Register.

B. Applicability of Existing Regulations

Consistent with the requirements of FIFRA section 25(d), FIFRA SAP members are subject to the provisions of the Standards of Ethical Conduct for Employees of the Executive Branch at 5 CFR part 2635, conflict of interest statutes in title 18 of the United States Code, and related regulations. Before being formally appointed, each candidate is required to submit a Confidential Financial Disclosure Form in which they must fully disclose, among other financial interests, the nominee's sources of research support, if any. EPA will evaluate the candidate's financial disclosure forms to assess the possibility of financial conflicts of interest, appearance of a loss of impartially, or any prior involvement with the development of documents likely to be under consideration by the FIFRA SAP (including previous scientific peer reviews) before the candidate is considered further.

C. Process of Obtaining Nominees

In accordance with the provisions of FIFRA section 25(d), on November 21, 2023, EPA requested that the NIH and the NSF nominate scientists to fill vacancies occurring on the FIFRA SAP. The Agency requested nominations of nationally recognized experts in the fields of ecological and human exposure assessment, including environmental fate and transport of chemicals; mathematical biostatistics; new approach methodologies (NAMs), including in vitro to in vivo extrapolation (IVIVE); toxicology, including carcinogenicity and physiologically-based pharmacokinetic (PBPK) modeling. Experts with specific experience in risk assessment, dose-response analysis, cheminformatics, bioinformatics, and genomics are preferred.

D. Nominated Individuals

NIH and NSF provided the Agency with a total of 39 nominees, of which, 12 are interested and available to actively participate in FIFRA SAP meetings (see unit III.D.2.), and 27 individuals are not available to be considered further for membership at this time (see unit III.D.1.). In addition to the list of nominees provided in this document, a compilation of brief biographical sketches, including information about the qualifications of the individual nominees, is available in the public docket identified under ADDRESSES.

1. Nominees That Are Not Available

The following individuals are not available to be considered further for membership at this time (listed alphabetically):

1. Lauren Aleksunes, PharmD, Ph.D., Rutgers University, Piscataway, New Jersey.

2. Abby Alkon, RN, Ph.D., University of California-San Francisco, San Francisco, California.

3. Thomas Arcury, Ph.D. (retired), Wake Forest School of Medicine, Winston-Salem, North Carolina.

4. Michelle Block, Ph.D., Indiana University, Indianapolis, Indiana.

5. Kim Boekelheide, Ph.D., Brown University, Providence, Rhode Island.

6. Tianxi Cai, ScD, Harvard Medical School, Boston, Massachusetts.

7. Weihsueh Chu, Ph.D., Texas A&M University, College Station, Texas.

8. Robert M. Corrigan, Ph.D., RMC Pest Management Consulting. Briarcliff Manor, New York.

9. Elaine Faustman, Ph.D., University of Washington, Seattle, Washington.

10. John Glasser, Ph.D., Centers for Disease Control and Prevention, Atlanta, Georgia.

11. Damian Helbing, Ph.D., Cornell University, Ithaca, New York.

12. Mevin Hooten, Ph.D., University of Texas-Austin, Austin, Texas.

13. Steve Hrudey, Ph.D., Professor Emeritus, University of Alberta. Edmonton, Alberta.

14. Nicole Kleinstreuer, Ph.D., National Institute of Environmental Health Sciences, Durham, North Carolina.

15. Ed Kolodziej, Ph.D., University of Washington, Seattle, Washington.

16. Rosa Krajmalnik-Brown, Ph.D., Arizona State University, Tempe, Arizona.

17. Teresa Leavens, Ph.D., North Carolina State University, Raleigh, North Carolina.

18. Zhoumeng Lin, Ph.D., University of Florida, Gainsville, Florida.

19. Michael Plewa, Ph.D., University of Illinois Urbana, Champaign, Illinois.

20. Beate Ritz, Ph.D., MD, University of California- Los Angeles, Los Angeles, California.

21. Ivan Rusyn, Ph.D., Texas A&M University, College Station, Texas.

22. Martyn Smith, Ph.D., University of California-Berkely, Berkeley, California.

23. Ana-Maria Staicu, Ph.D., North Carolina State University, Raleigh, North Carolina.

24. Michael L. Stein, Ph.D., Rutgers University, Piscataway, New Jersey.

25. Robyn Tanguay, Ph.D., Oregon State University, Corvallis, Oregon.

26. Katrina Waters, Ph.D., Oregon State University, Portland, Oregon.

27. Forest White, Ph.D., Massachusetts Institute of Technology, Cambridge, Massachusetts.

2. Nominees That Are Interested and Available

The following individuals are interested and available experts that the Agency is considering for membership on the FIFRA SAP (listed alphabetically). Selected biographical data for each nominee is available in the docket identified under ADDRESSES and through the FIFRA SAP website at https://www.epa.gov/sap. The Agency anticipates selecting new members by July 2024 to fill upcoming vacancies occurring on the Panel.

1. Antonio Banes, Ph.D., North Carolina Central University, Durham, North Carolina.

2. Steven Belmain, Ph.D., University of Greenwich, Greenwich, London.

3. Rebecca Fry, Ph.D., University of North Carolina, Chapel Hill, North Carolina.

4. James J. Galligan, Ph.D., University of Arizona, Tuscon, Arizona.

5. Thomas Hartung, MD, Ph.D., Johns Hopkins University, Baltimore, Maryland.

6. Eunha Hoh, Ph.D., San Diego State University, San Diego, California.

7. Lifang Hou, MD, Northwestern University, Chicago, Illinois.

8. Pamela Lein, Ph.D., University of California-Davis, Davis, California.

9. Bo Li, Ph.D., University of Illinois Urbana-Champaign, Illinois.

10. Michael Parsons, Ph.D., Fordham University, Bronx, New York.

11. Irfan Rahma, Ph.D., University of Rochester Medical Center, Rochester, New York.

12. Brian J. Reich, Ph.D., North Carolina State University, Raleigh, North Carolina.

Authority: 7 U.S.C. 136 et. seq.;21 U.S.C. 301 et seq.; 5 U.S.C. 10.

Dated: April 16, 2024.
Michal Freedhoff,
Assistant Administrator, Office of Chemical Safety and Pollution Prevention.

[FR Doc. 2024-08444 Filed 4-18-24; 8:45 am]

BILLING CODE 6560-50-P